DEPARTMENT OF COMMERCE

National Oceanic and Atmospheric Administration

Proposed Information Collection; Comment Request; Alaska Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 1, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

Under the authority of the Magnuson-Stevens Act, 16 U.S.C. 1801 et seq., (Section 303(b)(1) specifically recognizes the need for permit issuance), fishermen and processors wishing to participate in groundfish fisheries in the Exclusive Economic Zone off the coast of Alaska must obtain a Federal Fisheries Permit, a Federal Processor Permit, or an Exempted Fishing Permit. The application information is used to identify participants and expected activity levels in the fishery and to aid enforcement of fishery regulations. The information from this collection-of-information is used to monitor and manage groundfish fisheries by NMFS, Alaska Region.

II. Method of Collection

Respondents have a choice of either electronic or paper forms. Methods of submittal include e-mail of electronic forms, and mail and facsimile transmission of paper forms.

III. Data

OMB Control Number: 0648-0206.

Form Number: None.

Type of Review: Regular submission.

Affected Public: Business or other for-profit organizations, individuals or households, and not-for-profit institutions.

Estimated Number of Respondents: 886.

Estimated Time Per Response: 21 minutes for Federal Fisheries Permit application; 21 minutes for Federal Processor Permit application; and 35 hours for Exempted Fisheries Permit application.

Estimated Total Annual Burden Hours: 378.

Estimated Total Annual Cost to Public: $1,335.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 26, 2009.
Gwellnar Banks,
Management Analyst, Office of the Chief Information Officer.

[FR Doc. E9-7219 Filed 3-31-09; 8:45 am]

BILLING CODE 3510-22-P